DEPARTMENT OF TRANSPORTATION

Federal Aviation Administration

14 CFR Part 121

[Docket No.: FAA-2014-0504; Amdt. No.: 121-384A]

RIN 2120-AJ87

Pilot Professional Development; Technical Amendment; Correction.

AGENCY: Federal Aviation Administration (FAA), Department of Transportation (DOT).

ACTION: Final rule; correction of a technical amendment.

SUMMARY: The FAA is correcting a final rule technical amendment published on June 30, 2020 (85 FR 39069). In that final rule, which became effective on the date of publication, the FAA corrected errors in regulatory cross references associated with the Pilot Professional Development final rule. The FAA inadvertently listed an incorrect amendment number for the final rule technical amendment. This document corrects that error.

DATES: July 24, 2020.

FOR FURTHER INFORMATION CONTACT: Sheri Pippin, Air Transportation Division (AFS-200), Flight Standards Service, Federal Aviation Administration, 800 Independence Avenue SW, Washington, DC 20591; telephone: (202) 267-8166; email: sheri.pippin@faa.gov.

SUPPLEMENTARY INFORMATION:

Good Cause for Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Section 553(d)(3) of the APA requires that agencies publish a rule not less than 30 days before its effective date, except as otherwise provided by the agency for good cause found and published with the rule.

Because this action merely makes a correction to the amendment number of a published final rule technical amendment, the FAA finds that notice and public comment under 5 U.S.C. 553(b) is unnecessary. For the same reason, the FAA finds that good cause exists under 5 U.S.C. 553(d) for making this rule effective in less than 30 days.

Background

On February 25, 2020, the FAA published the Pilot Professional Development final rule (85 FR 10896). After that rule was published, the FAA discovered two minor errors in §§ 121.409 and 121.424 of Title 14 of the Code of Federal Regulations that required correction. Those errors were corrected in a technical amendment published June 30, 2020 (85 FR 39069). In the technical amendment, the FAA listed the amendment number as 121-282B.

Correction

In the final rule, FR Doc. 2020-12170, published on June 30, 2020, at 85 FR 39069, make the following correction:

1. On page 39069 in the heading of the final rule, revise “Amdt. No. 121-282B” to read “121-384”.

Issued under authority provided by 49 U.S.C. 106(f), 106(g), 44701(a), and Sec. 206 of Public Law 111-216, 124 Stat. 2348 (49 U.S.C. 44701 note) in Washington, DC, on July 9, 2020.

Brandon Roberts,
Executive Director, Office of Rulemaking.

[FR Doc. 2020-15229 Filed 7-23-20; 8:45 am]

BILLING CODE 4910-13-P